DEPARTMENT OF TRANSPORTATION

Federal Aviation Administration

Agency Information Collection Activities: Emergency Clearance: Public Information Collection Requirements Submitted to the Office of Management and Budget (OMB): B4UFLY Smartphone App

AGENCY: Federal Aviation Administration (FAA), DOT.

ACTION: Notice.

SUMMARY: The Federal Aviation Administration (FAA) is announcing an opportunity for the public to comment on FAA's intention to collect information from the public. In accordance with the Paperwork Reduction Act of 1995, FAA invites public comments about our request to the Office of Management and Budget (OMB) for approval for an information collection. We are requesting an emergency review under 5 CFR part 1320(a)(2)(i) because public harm is reasonably likely to result if the normal clearance procedures are followed. In compliance with the requirement of section 3506(c)(2)(A) of the Paperwork Reduction Act of 1995, we have submitted to the Office of Management and Budget (OMB) the following requirements for emergency review.

The FAA has documented over 675 pilot and law enforcement reports of unmanned aircraft `events' in 2015. In comparison, the FAA received 238 of these reports in the entirety of 2014. This increase in reports, particularly in close proximity to airports, suggests that many unmanned aircraft system (UAS) operators are unaware of safety guidelines and policies and are unaware of the potential hazards these operations may pose to manned aircraft operations. The FAA's B4UFLY smartphone app will provide situational awareness of flight restrictions—including locations of airports, restricted airspace, special use airspaces, and temporary flight restrictions—based on a user's current or planned flight location. The risk posed to the National Airspace System (NAS) by increasingly unsafe UAS operations makes the immediate release of this app vital.

DATES: Written comments should be submitted by September 28, 2015.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the subsequent request for OMB's full clearance of this information collection.

FOR FURTHER INFORMATION CONTACT: Ronda Thompson at (202) 267-1416, or by email at: Ronda.Thompson@faa.gov.

SUPPLEMENTARY INFORMATION:

OMB Control Number: 2120-XXXX (to be assigned).

Title: B4UFLY Smartphone App.

Form Numbers: There are no FAA forms associated with this information collection.

Type of Review: Request for emergency clearance of a new information collection.

Background: Public Law 112-95, Section 336 requires model aircraft operators to notify the airport operator and air traffic control tower (if one is located at the airport) prior to operating within 5 miles of an airport. The FAA's B4UFLY smartphone app will provide situational awareness of flight restrictions—including locations of airports, restricted airspace, special use airspaces, and temporary flight restrictions—based on a user's current or planned flight location. In order to maintain NAS safety in proximity to airports, air traffic control personnel would need certain basic information about a UAS operator's intended flight in order to assess whether the UAS may disrupt or endanger manned air traffic. The data collected by the B4UFLY app during the initial 60-day beta test will help the FAA determine procedures for managing more widespread public use of the B4UFLY app.

Respondents: 1,000 beta test users.

Frequency: Approximately 5 submissions per week, per user.

Estimated Average Burden per Response: 2 minutes.

Estimated Total Annual Burden: 1,485 hours.

Issued in Washington, DC on August 21, 2015.
Ronda Thompson,
FAA Information Collection Clearance Officer, IT Enterprises Business Services Division, ASP-110.

[FR Doc. 2015-21415 Filed 8-27-15; 8:45 am]

BILLING CODE 4910-13-P